DEPARTMENT OF COMMERCE

National Oceanic and Atmospheric Administration

[RTID 0648-XC098]

Caribbean Fishery Management Council; Public Meeting

AGENCY: National Marine Fisheries Service (NMFS), National Oceanic and Atmospheric Administration (NOAA), Commerce.

ACTION: Notice of a public meeting.

SUMMARY: The Caribbean Fishery Management Council's (Council) Outreach and Education Advisory Panel (OEAP) will hold a hybrid public meeting to discuss the items contained in the agenda in the SUPPLEMENTARY INFORMATION.

DATES: The OEAP hybrid public meeting will be held on Wednesday, July 27, 2022, from 9:30 a.m. to 5 p.m. AST.

ADDRESSES: The meeting will be held at the Courtyard by Marriott Isla Verde Beach Resort, 7012 Boca de Cangrejos Avenue, Carolina, Puerto Rico 00979.

You may join the OEAP hybrid public meeting (via Zoom) from a computer, tablet or smartphone by entering the following address:

OEAP Zoom Meeting:

Topic: OEAP.

Time: This is a recurring meeting meet anytime.

Join Zoom Meeting: https://us02web.zoom.us/j/84039986774?pwd=SUhDc1hXeFloQWF3ajVtL2ZHRGN3Zz09.

Meeting ID: 840 3998 6774.

Passcode: 179728.

One tap mobile:

+17879667727,,84039986774#,,,,*179728# Puerto Rico

+19399450244,,84039986774#,,,,*179728# Puerto Rico

Dial by your location:

+1 787 966 7727 Puerto Rico

+1 939 945 0244 Puerto Rico

+1 787 945 1488 Puerto Rico

+1 669 900 6833 US (San Jose)

+1 929 205 6099 US (New York)

+1 253 215 8782 US (Tacoma)

+1 301 715 8592 US (Washington DC)

+1 312 626 6799 US (Chicago)

+1 346 248 7799 US (Houston)

Meeting ID: 840 3998 6774.

Passcode: 179728.

FOR FURTHER INFORMATION CONTACT: Diana Martino; telephone: (787) 226-8849; Caribbean Fishery Management Council, 270 Muñoz Rivera Avenue, Suite 401, San Juan, Puerto Rico 00918-1903.

SUPPLEMENTARY INFORMATION:

July 27, 2022

9:30 a.m.-9:45 a.m.

—Call to Order

—Adoption of Agenda

9:45 a.m.-10:15 a.m.

—OEAP Chairperson's Report

—Updates:

—Meetings and Webinars Attended: NOAA Caribbean, FEP-TAP, DAPs, CFMC Meeting

—Recipe Book

—Illustrated Booklets on Ecosystem Based Fishery Management (EBFM) and U.S. Caribbean MPAs

—MREP update

—Update status of O & E products Approved by the CFMC: Bulletin boards with Fisheries Information for Fish Markets/Restaurants and Signs on MPAs, St. Croix MPAs Poster and Fact Sheet.

10:15 a.m.-10:20 a.m.

—Break

10:20 a.m.-11 a.m.

—Status of Fishery Ecosystem Plan (FEP)—Update

—Outreach and Education Strategies Needed

—OEAP Recommendations

11 a.m.-12 p.m.

—Island-Based Fishery Management Plans Update

12 p.m.-1 p.m.

—Lunch

1 p.m.-5 p.m.

—OEAP Recommendation for Outreach Strategies on IBFMPs for Puerto Rico, St. Thomas/St. John, and St. Croix, USVI

—Liaisons Recommendations

—Liaisons Reports:

—Wilson Santiago/Puerto Rico

—Nicole Greaux/St. Thomas/St. John, USVI

—Mavel Maldonado/St. Croix, USVI

—CFMC Facebook, Instagram and YouTube Communications with Stakeholders

—Other Business

The order of business may be adjusted as necessary to accommodate the completion of agenda items. The meeting will begin on July 27, 2022 at 9:30 a.m., and will end on July 27, 2022, at 5 p.m. Other than the start time, interested parties should be aware that discussions may start earlier or later than indicated. In addition, the meeting may be extended from, or completed prior to the date established in this notice.

Special Accommodations

For any additional information on this public virtual meeting, please contact Diana Martino, Caribbean Fishery Management Council, 270 Muñoz Rivera Avenue, Suite 401, San Juan, Puerto Rico, 00918-1903, telephone: (787) 226-8849.

Authority: 16 U.S.C. 1801 et seq.

Dated: June 29, 2022.
Tracey L. Thompson,
Acting Deputy Director, Office of Sustainable Fisheries, National Marine Fisheries Service.

[FR Doc. 2022-14257 Filed 7-1-22; 8:45 am]

BILLING CODE 3510-22-P